DEPARTMENT OF COMMERCE

International Trade Administration

[A-791-819]

Notice of Final Determination of Sales at Less Than Fair Value: Certain Aluminum Plate From South Africa

AGENCY: Import Administration, International Trade Administration, Department of Commerce.

ACTION: Notice of final determination of sales at less than fair value.

SUMMARY: On May 21, 2004, the Department of Commerce published its preliminary determination of sales at less than fair value of certain aluminum plate from South Africa. The period of investigation is October 1, 2002, through September 30, 2003.

Based on our analysis of the comments received, we have made changes in the margin calculations. Therefore, the final determination differs from the preliminary determination. The final weighted-average dumping margin for the investigated company is listed below in the section entitled “Final Determination Margins.”

EFFECTIVE DATE: October 12, 2004.

FOR FURTHER INFORMATION CONTACT: Rebecca Trainor or Kate Johnson, AD/CVD Enforcement Office 2, Import Administration, International Trade Administration, U.S. Department of Commerce, 14th Street and Constitution Avenue, NW., Washington, DC 20230; telephone: (202) 482-4007 or (202) 482-4929, respectively.

SUPPLEMENTARY INFORMATION:

Final Determination

We determine that certain aluminum plate from South Africa is being, or is likely to be, sold in the United States at less-than-fair-value (LTFV), as provided in section 735 of the Act.

Case History

The preliminary determination in this investigation was published on May 21, 2004. See Notice of Preliminary Determination of Sales at Less Than Fair Value: Certain Aluminum Plate from South Africa, 69 FR 29262 (Preliminary Determination).

During the period May 24—27 and June 7—11, 2004, we conducted the sales and cost verifications, respectively, of the questionnaire responses of Hulett Aluminium (Pty) Ltd. (Hulett), the sole respondent in this case.

On June 3, 2004, we postponed the final determination until October 4, 2004. See Notice of Postponement of Final Antidumping Duty Determination: Certain Aluminum Plate from South Africa, 69 FR 31346. On June 21, 2004, the petitioner, Alcoa Inc., requested a hearing. We received case and rebuttal briefs on July 28, 2004, and August 10, 2004, respectively, from the petitioner and Hulett. On August 23, 2004, the petitioner withdrew its request for a hearing.

Scope of Investigation

The merchandise covered by this investigation is 6000 series aluminum alloy, flat surface, rolled plate, whether in coils or cut-to-length forms, that is rectangular in cross section with or without rounded corners and with a thickness of not less than .250 inches (6.3 millimeters). 6000 Series Aluminum Rolled Plate is defined by the Aluminum Association, Inc.

Excluded from the scope of this investigation are extruded aluminum products and tread plate.

The merchandise subject to this investigation is currently classifiable under subheading 7606.12.3030 of the Harmonized Tariff Schedule of the United States (HTS). Although the HTS subheading is provided for convenience and customs purposes, our written description of the scope of this investigation is dispositive.

Period of Investigation

The period of investigation is October 1, 2002, through September 30, 2003.

Analysis of Comments Received

All issues raised in the case briefs by parties to this proceeding and to which we have responded are listed in the Appendix to this notice and addressed in the “Issues and Decision Memorandum” (Decision Memorandum) from Gary Taverman, Acting Deputy Assistant Secretary for Import Administration, to Jeffrey May, Acting Assistant Secretary for Import Administration, dated October 4, 2004, which is adopted by this notice. Parties can find a complete discussion of the issues raised in this investigation and the corresponding recommendations in this public memorandum, which is on file in the Central Records Unit, room B-099 of the main Commerce Building. In addition, a complete version of the Decision Memorandum can be accessed directly on the Web at http://ia.ita.doc.gov/frn/index.html. The paper copy and electronic version of the Decision Memorandum are identical in content.

Changes Since the Preliminary Determination

Based on our analysis of the comments received and our findings at verification, we have made certain changes to the margin calculations. For a discussion of these changes, see the “Margin Calculations” section of the Decision Memorandum.

Verification

As provided in section 782(i) of the Act, we verified the information submitted by the respondent for use in our final determination. We used standard verification procedures including examination of relevant accounting and production records, and original source documents provided by the respondent.

Final Determination Margins

The weighted-average dumping margins are as follows:

Manufacturer/exporter | Margin (percent)
Hulett Aluminium (Pty) Ltd. | 3.51
All Others | 3.51

In accordance with section 735(c)(5)(A), we have based the “all others” rate on the dumping margin found for the producer/exporter investigated in this proceeding, Hulett.

Continuation of Suspension of Liquidation

In accordance with section 735(c)(1)(B) of the Act, we are directing U.S. Customs and Border Protection (CBP) to continue to suspend liquidation of all entries of certain aluminum plate from South Africa that are entered, or withdrawn from warehouse, for consumption on or after May 21, 2004, the publication date of the preliminary determination in the Federal Register. CBP shall continue to require a cash deposit or the posting of a bond based on the estimated weighted-average dumping margin shown above. The suspension of liquidation instructions will remain in effect until further notice.

ITC Notification

In accordance with section 735(d) of the Act, we have notified the International Trade Commission (ITC) of our determination. As our final determination is affirmative, the ITC will determine within 45 days whether these imports are causing material injury, or threat of material injury, to an industry in the United States. If the ITC determines that material injury or threat of injury does not exist, the proceeding will be terminated and all securities posted will be refunded or canceled. If the ITC determines that such injury does exist, the Department will issue an antidumping duty order directing CBP officials to assess antidumping duties on all imports of the subject merchandise entered, or withdrawn from warehouse, for consumption on or after the effective date of the suspension of liquidation.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 735(d) and 777(i) of the Act.

Dated: October 4, 2004.
Jeffrey May,
Acting Assistant Secretary for Import Administration.

Appendix—Issues in the Decision Memorandum

Comments

Comment 1: Decline of the U.S. Dollar Against the South African Rand.

Comment 2: Offsets for Non-Dumped Comparisons.

Comment 3: SACD Storage Fee.

[FR Doc. E4-2573 Filed 10-8-04; 8:45 am]

BILLING CODE 3510-DS-P